DEPARTMENT OF COMMERCE

International Trade Administration

[A-351-860, A-834-812, A-557-828]

Ferrosilicon From Malaysia: Amended Final Determination of Sales at Less Than Fair Value; Ferrosilicon From Brazil, Kazakhstan, and Malaysia: Antidumping Duty Orders

AGENCY: Enforcement and Compliance, International Trade Administration, Department of Commerce.

SUMMARY: Based on affirmative final determinations by the U.S. Department of Commerce (Commerce) and the U.S. International Trade Commission (ITC), Commerce is issuing antidumping duty (AD) orders on ferrosilicon from Brazil, Kazakhstan, and Malaysia. In addition, Commerce is amending its final determination of sales at less than fair value (LTFV) with respect to ferrosilicon from Malaysia to correct ministerial errors.

DATES: Applicable May 20, 2025.

FOR FURTHER INFORMATION CONTACT: Jaron Moore or Noah Wetzel (Brazil), Mira Warrier (Kazakhstan), and Jacob Waddell or Carolyn Adie (Malaysia), AD/CVD Operations, Offices VIII, II, and VI, respectively, Enforcement and Compliance, International Trade Administration, U.S. Department of Commerce, 1401 Constitution Avenue NW, Washington, DC 20230; telephone: (202) 482-3640, (202) 482-7466, (202) 482-8031, (202) 482-1369, or (202) 482-6250, respectively.

SUPPLEMENTARY INFORMATION:

Background

In accordance with section 735(d) of the Tariff Act of 1930, as amended (the Act), on March 28, 2025, Commerce published its affirmative final determinations of sales at LTFV of ferrosilicon from Brazil, Kazakhstan, and Malaysia.¹ In the LTFV investigation of ferrosilicon from Malaysia, the petitioners and a respondent timely alleged that Commerce made certain ministerial errors. See “Amendment to the Malaysia Final Determination of Sales at Less than Fair Value” section below for further discussion.

¹ See Ferrosilicon from Brazil: Final Affirmative Determination of Sales at Less Than Fair Value, 90 FR 14112 (March 28, 2025); see also Ferrosilicon from Kazakhstan: Final Affirmative Determination of Sales at Less-Than-Fair-Value and Final Negative Determination of Critical Circumstances, 90 FR 14077 (March 28, 2025); and Ferrosilicon from Malaysia: Final Affirmative Determination of Sales at Less Than Fair Value and Final Negative Determination of Critical Circumstances, 90 FR 14105 (March 28, 2025) (Malaysia Final LTFV Determination).

On May 12, 2025, pursuant to section 735(d) of the Act, the ITC notified Commerce of its final affirmative determinations that an industry in the United States is materially injured by reason of dumped imports of ferrosilicon from Brazil, Kazakhstan, and Malaysia, within the meaning of section 735(b)(1)(A)(i) of the Act.²

² See ITC's Letter, “Notice of Final Determinations (Investigation Nos. 701-TA-712-714 and 731-TA-1679-1681),” dated May 12, 2025 (ITC Notification Letter).

Scope of the Orders

The product covered by these orders is ferrosilicon from Brazil, Kazakhstan, and Malaysia. For a complete description of the scope of the orders, see the appendix to this notice.

Amendment to the Final Determination of Sales at LTFV for Malaysia

We determine that we made certain ministerial errors in the sales at LTFV final determination of ferrosilicon from Malaysia. Pursuant to 19 CFR 351.224(e), and as explained further in the Malaysia Ministerial Error Memorandum, Commerce is amending the Malaysia Final LTFV Determination to reflect the correction of certain ministerial errors.³ Correction of these errors changes the final AD cash deposit rate for OM Materials (Sarawak) Sdn. Bhd. and Pertama Ferroalloys Sdn. Bhd, as well as the cash deposit rate for all other producers and exporters not individually investigated. The revised rates are listed in the “Estimated Weighted-Average Dumping Margins” section, below.

³ See Memorandum, “Less-Than-Fair-Value Investigation of Ferrosilicon from Malaysia: Analysis of Ministerial Error Allegations,” dated April 22, 2025 (Malaysia Ministerial Error Memorandum).

AD Orders

On May 12, 2025, in accordance with section 735(d) of the Act, the ITC notified Commerce of its final determination that an industry in the United States is materially injured within the meaning of section 735(b)(1)(A)(i) of the Act by reason of imports of ferrosilicon from Brazil, Kazakhstan, and Malaysia that are sold in the United States at less than fair value.⁴ Therefore, in accordance with sections 735(c)(2) and 736 of the Act, Commerce is issuing these AD orders. Because the ITC determined that imports of ferrosilicon from Brazil, Kazakhstan, and Malaysia are materially injuring a U.S. industry, unliquidated entries of such merchandise from Brazil, Kazakhstan, and Malaysia, entered or withdrawn from warehouse for consumption, are subject to the assessment of antidumping duties.

⁴ See ITC Notification Letter.

Therefore, in accordance with section 736(a)(1) of the Act, Commerce will direct U.S. Customs and Border Protection (CBP) to assess, upon further instruction by Commerce, antidumping duties equal to the amount by which the normal value of the merchandise exceeds the export price (or constructed export price) of the merchandise on all relevant entries of ferrosilicon from Brazil, Kazakhstan, and Malaysia. Antidumping duties will be assessed on unliquidated entries of ferrosilicon from Brazil, Kazakhstan, and Malaysia entered, or withdrawn from warehouse, for consumption on or after November 6, 2024, the date of publication of the Preliminary Determinations,⁵ but will not include entries occurring after the expiration of the provisional measures period and before publication of the ITC's final injury determination, as further described below.

⁵ See Ferrosilicon from Brazil: Preliminary Affirmative Determination of Sales at Less Than Fair Value, Postponement of Final Determination, and Extension of Provisional Measures, 89 FR 88004 (November 6, 2024); see also Ferrosilicon from Kazakhstan: Preliminary Affirmative Determination of Sales at Less Than Fair Value, Preliminary Negative Determination of Critical Circumstances, Postponement of Final Determination, and Extension of Provisional Measures, 89 FR 88007 (November 6, 2024) (Kazakhstan Preliminary Determination), and accompanying Preliminary Decision Memorandum (PDM); and Ferrosilicon from Malaysia: Preliminary Affirmative Determination of Sales at Less Than Fair Value, Preliminary Negative Determination of Critical Circumstances, Postponement of Final Determination, and Extension of Provisional Measures, 89 FR 88010 (November 6, 2024) (collectively, Preliminary Determinations).

Continuation of Suspension of Liquidation and Cash Deposits

Except as noted in the “Provisional Measures” section of this notice, Commerce intends to instruct CBP to continue to suspend liquidation on all relevant entries of ferrosilicon from Brazil, Kazakhstan, and Malaysia, in accordance with section 736 of the Act. These instructions suspending liquidation will remain in effect until further notice.

Because the estimated weighted-average dumping margin for Minasligas S.A. is de minimis, entries of shipments of subject merchandise that are produced and exported by Minasligas S.A. will not be subject to suspension of liquidation or cash deposit requirements. In such situations, Commerce also applies the exclusion from the provisional measures to the producer/exporter combination that was examined in the investigation. Accordingly, Commerce will not direct CBP to suspend liquidation of entries of subject merchandise produced and exported by Minasligas S.A. However, entries of subject merchandise from this company in any other producer/exporter combination (i.e., where Minasligas S.A. is either the producer or the exporter, but not both), or by third parties that sourced subject merchandise from the excluded producer/exporter combination, will be subject to suspension of liquidation at the all-others rate.

Further, because the estimated weighted-average dumping margin is de minimis for subject merchandise produced and exported by Minasligas S.A., entries of such merchandise are excluded from the AD order. This exclusion is not applicable to merchandise exported to the United States by this respondent in any other producer/exporter combinations or by third parties that sourced subject merchandise from the excluded producer/exporter combination.

Commerce also intends to instruct CBP to require cash deposits equal to the estimated weighted-average dumping margins indicated in the tables below, adjusted by the relevant subsidy offsets. Accordingly, effective on the date of publication in the Federal Register of the notice of the ITC's final affirmative injury determination, CBP must require, at the same time as importers would normally deposit estimated customs duties on subject merchandise, a cash deposit equal to the rates listed in the tables below.

Estimated Weighted-Average Dumping Margins

The estimated weighted-average dumping margins are as follows:

Brazil
Exporter/producer | Estimated weighted-average dumping margin (percent) | Cash deposit rate (adjusted for subsidy offset(s)) (percent)
Companhia de Ferro Ligas da Bahia S.A | 13.66 | 13.57.
Ligas de Aluminio S.A | 21.78 * | 0.00.
Minasligas S.A | 0.78 (de minimis) | Not Applicable.
All Others | 13.66 | 13.57.
* Rate based on facts available with adverse inferences.

Kazakhstan
Exporter/producer | Estimated weighted-average dumping margin (percent)
YDD Corporation LLP; Asia FerroAlloys LLP; KazSilicon Metallurgical Combine LLP ⁶ | 6.01
TNC Kazchrome JSC | 6.20
All Others | 6.05

Malaysia
Exporter/producer | Estimated weighted-average dumping margin (percent) | Cash deposit rate (adjusted for subsidy offset(s)) (percent)
OM Materials (Sarawak) Sdn. Bhd | 5.10 | 4.66
Pertama Ferroalloys Sdn. Bhd | 42.88 | 42.60
All Others | 21.76 | 21.37

Provisional Measures

⁶ Commerce has found that YDD Corporation LLP, Asia FerroAlloys LLP, and KazSilicon Metallurgical Combine LLP comprise a single entity. See Kazakhstan Preliminary Determination PDM.

Section 733(d) of the Act states that suspension of liquidation pursuant to an affirmative preliminary determination may not remain in effect for more than four months, except where exporters representing a significant proportion of exports of the subject merchandise request that Commerce extend the four-month period to no more than six months. At the request of exporters that accounted for a significant proportion of exports of ferrosilicon from Brazil, Kazakhstan, and Malaysia, Commerce extended the four-month period to no more than six-months.⁷ In the underlying investigations, Commerce published the Preliminary Determinations on November 6, 2024. Therefore, the six-month period beginning on the date of the publication of the Preliminary Determinations ended on May 4, 2025. Pursuant to section 737(b) of the Act, the collection of cash deposits at the rates listed above will begin on the date of publication of the ITC's final injury determinations. Therefore, in accordance with section 736(a)(1) of the Act and our practice, Commerce will instruct CBP to terminate the suspension of liquidation and to liquidate, without regard to antidumping duties, unliquidated entries of ferrosilicon from Brazil, Kazakhstan, and Malaysia entered, or withdrawn from warehouse, for consumption on or after May 5, 2025, the first day provisional measures were no longer in effect, until and through the day preceding the date of publication of the ITC's final injury determination in the Federal Register. Suspension of liquidation and the collection of cash deposits will resume on the date of publication of the ITC's final determinations in the Federal Register.

⁷ See Preliminary Determinations.

Establishment of the Annual Inquiry Service Lists

On September 20, 2021, Commerce published the Final Rule in the Federal Register.⁸ On September 27, 2021, Commerce also published the Procedural Guidance in the Federal Register.⁹ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.

⁸ See Regulations to Improve Administration and Enforcement of Antidumping and Countervailing Duty Laws, 86 FR 52300 (September 20, 2021) (Final Rule).

⁹ See Scope Ruling Application; Annual Inquiry Service List; and Informational Sessions, 86 FR 53205 (September 27, 2021) (Procedural Guidance).

In accordance with the Procedural Guidance, for orders published in the Federal Register after November 4, 2021, Commerce will create an annual inquiry service list segment in Commerce's online e-filing and document management system, Antidumping and Countervailing Duty Electronic Service System (ACCESS), available at https://access.trade.gov, within five business days of publication of the notice of the order. Each annual inquiry service list will be saved in ACCESS, under each case number, and under a specific segment type called “AISL—Annual Inquiry Service List.” ¹⁰

¹⁰ This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance,¹¹ the new annual inquiry service list will be in place until the following year, when the Opportunity Notice for the anniversary month of the order is published.

¹¹ See Procedural Guidance, 86 FR at 53206.

Commerce may update an annual inquiry service list at any time as needed based on interested parties' amendments to their entries of appearance to remove or otherwise modify their list of members and representatives, or to update contact information. Any changes or announcements pertaining to these procedures will be posted to the ACCESS website.

Special Instructions for Petitioners and Foreign Governments

In the Final Rule, Commerce stated that, “after an initial request and placement on the annual inquiry service list, both petitioners and foreign governments will automatically be placed on the annual inquiry service list in the years that follow.” ¹² Accordingly, as stated above, the petitioners and the Governments of Brazil, Kazakhstan, and Malaysia should submit their initial entry of appearance after publication of this notice in order to appear in the first annual inquiry service list for those orders for which they qualify as an interested party. Pursuant to 19 CFR 351.225(n)(3), the petitioners and the Governments of Brazil, Kazakhstan, and Malaysia will not need to resubmit their entries of appearance each year to continue to be included on the annual inquiry service list. However, the petitioners and the Governments of Brazil, Kazakhstan, and Malaysia are responsible for making amendments to their entries of appearance during the annual update to the annual inquiry service list in accordance with the procedures described above.

¹² See Final Rule, 86 FR at 52335.

Notification to Interested Parties

This notice constitutes the AD orders with respect to ferrosilicon from Brazil, Kazakhstan, and Malaysia pursuant to section 736(a) of the Act. Interested parties can find a list of AD orders currently in effect at https://www.trade.gov/data-visualization/adcvd-proceedings.

These AD orders are published in accordance with section 736(a) of the Act and 19 CFR 351.211(b).

Dated: May 14, 2025.
Christopher Abbott,
Deputy Assistant Secretary for Policy and Negotiations, performing the non-exclusive functions and duties of the Assistant Secretary for Enforcement and Compliance.

Appendix

The scope of these orders covers all forms and sizes of ferrosilicon, regardless of grade, including ferrosilicon briquettes. Ferrosilicon is a ferroalloy containing by weight four percent or more iron, more than eight percent but not more than 96 percent silicon, three percent or less phosphorus, 30 percent or less manganese, less than three percent magnesium, and 10 percent or less of any other element. The merchandise covered also includes product described as slag, if the product meets these specifications.

Subject merchandise includes material matching the above description that has been finished, packaged, or otherwise processed in a third country, including by performing any grinding or any other finishing, packaging, or processing that would not otherwise remove the merchandise from the scope of the orders if performed in the country of manufacture of the ferrosilicon.

Ferrosilicon is currently classifiable under subheadings 7202.21.1000, 7202.21.5000, 7202.21.7500, 7202.21.9000, 7202.29.0010, and 7202.29.0050 of the Harmonized Tariff Schedule of the United States (HTSUS). While the HTSUS numbers are provided for convenience and customs purposes, the written description of the scope remains dispositive.

[FR Doc. 2025-08986 Filed 5-19-25; 8:45 am]

BILLING CODE 3510-DS-P